DEPARTMENT OF TRANSPORTATION

Federal Aviation Administration

14 CFR Part 39

[Docket No. FAA-2019-0257; Product Identifier 2018-NM-175-AD]

RIN 2120-AA64

Airworthiness Directives; Airbus SAS Airplanes

AGENCY: Federal Aviation Administration (FAA), DOT.

ACTION: Notice of proposed rulemaking (NPRM).

SUMMARY: We propose to supersede Airworthiness Directive (AD) 2018-20-06, which applies to certain Airbus SAS Model A300 F4-600R series airplanes. AD 2018-20-06 requires repetitive high frequency eddy current (HFEC) inspections of the aft lower deck cargo door (LDCD) frame forks; a one-time check of the LDCD clearances; and a one-time detailed visual inspection of hooks, eccentric bushes, and x-stops; and corrective actions if necessary. Since we issued AD 2018-20-06, we determined certain compliance times need to be revised, depending on frame fork configuration. This proposed AD would continue to require the actions of AD 2018-20-06 and would require new compliance times, depending on frame fork configuration. We are proposing this AD to address the unsafe condition on these products.

DATES: We must receive comments on this proposed AD by June 21, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus SAS, Airworthiness Office—EAW, Rond-Point Emile Dewoitine No: 2, 31700 Blagnac Cedex, France; telephone +33 5 61 93 36 96; fax +33 5 61 93 44 51; email account.airworth-eas@airbus.com; internet http://www.airbus.com. You may view this referenced service information at the FAA, Transport Standards Branch, 2200 South 216th St., Des Moines, WA. For information on the availability of this material at the FAA, call 206-231-3195.

Examining the AD Docket

You may examine the AD docket on the internet at http://www.regulations.gov by searching for and locating Docket No. FAA-2019-0257; or in person at Docket Operations between 9 a.m. and 5 p.m., Monday through Friday, except Federal holidays. The AD docket contains this NPRM, the regulatory evaluation, any comments received, and other information. The street address for Docket Operations (phone 800-647-5527) is in the ADDRESSES section. Comments will be available in the AD docket shortly after receipt.

FOR FURTHER INFORMATION CONTACT: Dan Rodina, Aerospace Engineer, International Section, Transport Standards Branch, FAA, 2200 South 216th St., Des Moines, WA 98198; telephone and fax 206-231-3225.

SUPPLEMENTARY INFORMATION:

Comments Invited

We invite you to send any written relevant data, views, or arguments about this proposal. Send your comments to an address listed under the ADDRESSES section. Include “Docket No. FAA-2019-0257; Product Identifier 2018-NM-175-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued AD 2018-20-06, Amendment 39-19440 (83 FR 49265, October 1, 2018) (“AD 2018-20-06”), for certain Airbus SAS Model A300 F4-600R series airplanes. AD 2018-20-06 requires repetitive HFEC inspections of the aft LDCD frame forks; a one-time check of the LDCD clearances; and a one-time detailed visual inspection of hooks, eccentric bushes, and x-stops; and corrective actions if necessary. AD 2018-20-06 resulted from a report of two adjacent frame forks that were found cracked on the aft LDCD of two airplanes during scheduled maintenance, and the introduction of frame fork reinforcement or repair procedures that, when done, allow an extension of repetitive inspection intervals. We issued AD 2018-20-06 to address cracked or ruptured aft LDCD frames, which could allow loads to be transferred to the remaining structural elements. This condition could lead to the rupture of one or more vertical aft LDCD frames, which could result in reduced structural integrity of the aft LDCD.

Actions Since AD 2018-20-06 Was Issued

Since we issued AD 2018-20-06, we have determined that certain compliance times need to be reduced, depending on the frame fork configuration. In addition, certain compliance times are extended.

The European Aviation Safety Agency (EASA), which is the Technical Agent for the Member States of the European Union, has issued EASA AD 2018-0266, dated December 11, 2018 (referred to after this as the Mandatory Continuing Airworthiness Information, or “the MCAI”), to correct an unsafe condition for certain Airbus SAS Model A300 F4-600R series airplanes. The MCAI states:

During scheduled maintenance at frames (FR) 61 and FR61A on the aft lower deck cargo door (LDCD) of two [Airbus SAS] A300-600F4 aeroplanes, two adjacent frame forks were found cracked. Subsequent analysis determined that, in case of cracked or ruptured aft cargo door frame(s), loads will be transferred to the remaining structural elements. However, these secondary load paths will be able to sustain the loads for a limited number of flight cycles (FC) only.

This condition, if not detected and corrected, could lead to the rupture of one or more vertical aft cargo door frame(s), resulting in reduced structural integrity of the aft cargo door.

To address this unsafe condition, Airbus issued Alert Operators Transmission (AOT) A52W011-15 to provide inspection instructions, and, consequently, EASA issued AD 2015-0152 to require repetitive inspections of the aft LDCD frame forks and, depending on findings, the accomplishment of applicable corrective action(s). Subsequently, Airbus published the modification SB [service bulletin] to provide frame fork reinforcement instructions, and the inspection SB to provide instructions to inspect the cargo door for cracks, as well as for frame fork replacement, including provisions for extended inspection intervals. EASA revised the AD accordingly.

Since EASA AD 2015-0152R1 [which corresponds to FAA AD 2018-20-06] was issued, further investigations results allowed Airbus to define new thresholds and inspection intervals according to the frame fork configuration. Consequently, the inspection SB was revised to include these new thresholds and intervals.

For the reasons described above, this [EASA] AD retains the requirements of EASA AD 2015-0152R1, which is superseded, and introduces new thresholds and intervals, depending on frame fork configuration.

You may examine the MCAI in the AD docket on the internet at http://www.regulations.gov by searching for and locating Docket No. FAA-2019-0257.

Related Service Information Under 1 CFR Part 51

This proposed AD would require Airbus Alert Operators Transmission A52W011-15, Revision 00, including Appendices 1, 2, 3, and 4, dated July 23, 2015, which the Director of the Federal Register approved for incorporation by reference as of January 26, 2017 (81 FR 93801, December 22, 2016).

This proposed AD would also require Airbus Service Bulletin A300-52-6085, Revision 01, dated May 2, 2018; and Airbus Service Bulletin A300-52-6086, Revision 01, dated May 29, 2018; which the Director of the Federal Register approved for incorporation by reference as of November 5, 2018 (83 FR 49265, October 1, 2018).

This service information is reasonably available because the interested parties have access to it through their normal course of business or by the means identified in the ADDRESSES section.

FAA's Determination

This product has been approved by the aviation authority of another country, and is approved for operation in the United States. Pursuant to our bilateral agreement with the State of Design Authority, we have been notified of the unsafe condition described in the MCAI and service information referenced above. We are proposing this AD because we evaluated all the relevant information and determined the unsafe condition described previously is likely to exist or develop on other products of the same type design.

Proposed Requirements of This NPRM

This proposed AD would retain the actions of AD 2018-20-06. This proposed AD would require accomplishing the actions specified in the service information described previously.

Costs of Compliance

We estimate that this proposed AD affects 58 airplanes of U.S. registry. We estimate the following costs to comply with this proposed AD:

Estimated Costs for Required Actions
Action | Labor cost | Parts cost | Cost per product | Cost on U.S. operators
Retained actions from AD 2018-20-06 | 17 work-hours × $85 per hour = $1,445 | $0 | $1,445 | $83,810

The new requirements of this proposed AD add no additional economic burden.

We estimate the following costs to do any necessary on-condition actions that would be required based on the results of any required actions. We have no way of determining the number of aircraft that might need these on-condition actions:

Estimated Costs of On-Condition Actions
Labor cost | Parts cost | Cost per product
Up to 65 work-hours × $85 per hour = $5,525 | Up to $10,000 | Up to $15,525.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979),

3. Will not affect intrastate aviation in Alaska, and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-20-06, Amendment 39-19440 (83 FR 49265, October 1, 2018), and adding the following new AD:

Airbus SAS: Docket No. FAA-2019-0257; Product Identifier 2018-NM-175-AD.

(a) Comments Due Date

We must receive comments by June 21, 2019.

(b) Affected ADs

This AD replaces 2018-20-06, Amendment 39-19440 (83 FR 49265, October 1, 2018) (“AD 2018-20-06”).

(c) Applicability

This AD applies to Airbus SAS Model A300 F4-605R and F4-622R airplanes, certificated in any category, on which Airbus modification 12046 has been embodied in production. Modification 12046 has been embodied in production on manufacturer serial numbers (MSNs) 0805 and above, except MSNs 0836, 0837, and 0838.

(d) Subject

Air Transport Association (ATA) of America Code 52, Doors.

(e) Reason

This AD was prompted by a report of two adjacent frame forks that were found cracked on the aft lower deck cargo door (LDCD) of two airplanes during scheduled maintenance, and a determination that certain compliance times need to be revised. We are issuing this AD to address cracked or ruptured aft LDCD frames, which could allow loads to be transferred to the remaining structural elements. This condition could lead to the rupture of one or more vertical aft LDCD frames, which could result in reduced structural integrity of the aft LDCD.

(f) Compliance

Comply with this AD within the compliance times specified, unless already done.

(g) New Affected Part Definition

For the purposes of this AD, an affected part is a frame fork having a part number identified in figure 1 to paragraph (g) of this AD.

(h) Retained Inspection Requirements and On-Condition Actions, With Revised Compliance Language

This paragraph restates the requirements of paragraph (g) of AD 2018-20-06, with revised compliance language. At the applicable time specified in paragraph (i) of this AD, or before exceeding the threshold defined in figure 2 to paragraph (h) of this AD, whichever occurs later: Do the actions specified in paragraphs (h)(1), (h)(2), and (h)(3) of this AD. Repeat the high frequency eddy current (HFEC) inspection specified in paragraph (h)(3) of this AD at all LDCD frame fork stations having affected parts thereafter at intervals not to exceed the applicable times specified in figure 2 to paragraph (h) of this AD.

(1) A one-time check of the aft LDCD clearances “U” and “V” between the latching hooks and the eccentric bush at frame (FR) 60 through FR64A, in accordance with the instructions of Airbus Alert Operators Transmission A52W011-15, Revision 00, dated July 23, 2015; or the Accomplishment Instructions of Airbus Service Bulletin A300-52-6086, Revision 01, dated May 29, 2018. If any value outside tolerance is found, adjust the latching hook before further flight, in accordance with the instructions of Airbus Alert Operators Transmission A52W011-15, Revision 00, dated July 23, 2015; or the Accomplishment Instructions of Airbus Service Bulletin A300-52-6086, Revision 01, dated May 29, 2018.

(2) A one-time detailed inspection to detect signs of wear of the hooks, eccentric bushes, and x-stops, in accordance with the instructions of Airbus Alert Operators Transmission A52W011-15, Revision 00, dated July 23, 2015. If any wear is found, do all applicable corrective actions before further flight, in accordance with the instructions of Airbus Alert Operators Transmission A52W011-15, Revision 00, dated July 23, 2015.

(3) An HFEC inspection to detect cracking at all frame fork stations of the aft LDCD, in accordance with the instructions of Airbus Alert Operators Transmission A52W011-15, Revision 00, dated July 23, 2015; or the Accomplishment Instructions of Airbus Service Bulletin A300-52-6086, Revision 01, dated May 29, 2018. If any crack is found, before further flight, replace the cracked frame fork, in accordance with the instructions of Airbus Alert Operators Transmission A52W011-15, Revision 00, dated July 23, 2015; repair the cracked frame fork, in accordance with the Accomplishment Instructions of Airbus Service Bulletin A300-52-6086, Revision 01, dated May 29, 2018; or modify (reinforce) the cracked frame fork, including doing all applicable related investigative and corrective actions, in accordance with the Accomplishment Instructions of Airbus Service Bulletin A300-52-6085, Revision 01, dated May 2, 2018, except as required by paragraph (j) of this AD.

(i) Retained Compliance Times, With No Changes

At the later of the times specified in paragraphs (i)(1) and (i)(2) of this AD, do the actions required by paragraph (h) of this AD.

(1) Before the accumulation of 4,500 total flight cycles.

(2) At the applicable time specified by paragraph (i)(2)(i) or (i)(2)(ii) of this AD.

(i) For airplanes that have accumulated 8,000 or more total flight cycles as of January 26, 2017 (the effective date of AD 2016-25-03, Amendment 39-18729 (81 FR 93801, December 22, 2016) (“AD 2016-25-03”)): Within 100 flight cycles after January 26, 2017.

(ii) For airplanes that have accumulated fewer than 8,000 total flight cycles as of January 26, 2017 (the effective date of AD 2016-25-03): Within 400 flight cycles after January 26, 2017.

(j) Service Information Exception

Where Airbus Service Bulletin A300-52-6085, Revision 01, dated May 2, 2018, specifies to contact Airbus for appropriate action: Before further flight, accomplish corrective actions in accordance with the procedures specified in paragraph (n)(2) of this AD.

(k) No Terminating Action

Accomplishment of corrective actions on an airplane as required by paragraph (h)(1) or (h)(2) of this AD, or repair, modification, or replacement of a frame fork as required by paragraph (h)(3) of this AD, on the aft LDCD of an airplane does not constitute terminating action for the repetitive HFEC inspections required by paragraph (h)(3) of this AD for that airplane.

(l) No Reporting

Although the Accomplishment Instructions of Airbus Alert Operators Transmission A52W011-15, Revision 00, dated July 23, 2015; and Airbus Service Bulletin A300-52-6086, Revision 01, dated May 29, 2018; specify to submit certain information to the manufacturer, this AD does not include that requirement.

(m) Credit for Previous Actions

(1) This paragraph provides credit for actions required by paragraphs (h)(1) and (h)(3) of this AD, if those actions were performed before the effective date of this AD using Airbus Service Bulletin A300-52-6086, Revision 00, dated December 25, 2016.

(2) This paragraph provides credit for actions required by paragraph (h)(3) of this AD, if those actions were performed before the effective date of this AD using Airbus Service Bulletin A300-52-6085, Revision 00, dated December 22, 2016.

(n) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (o)(2) of this AD. Information may be emailed to 9-ANM-116-AMOC-REQUESTS@faa.gov.

(i) Before using any approved AMOC, notify your appropriate principal inspector, or lacking a principal inspector, the manager of the local flight standards district office/certificate holding district office.

(ii) AMOCs approved previously for AD 2018-20-06 are approved as AMOCs for the corresponding provisions of this AD.

(2) Contacting the Manufacturer: As of the effective date of this AD, for any requirement in this AD to obtain corrective actions from a manufacturer, the action must be accomplished using a method approved by the Manager, International Section, Transport Standards Branch, FAA; or the European Aviation Safety Agency (EASA); or Airbus SAS's EASA Design Organization Approval (DOA). If approved by the DOA, the approval must include the DOA-authorized signature.

(o) Related Information

(1) Refer to Mandatory Continuing Airworthiness Information (MCAI) EASA AD 2018-0266, dated December 11, 2018, for related information. This MCAI may be found in the AD docket on the internet at http://www.regulations.gov by searching for and locating Docket No. FAA-2019-0257.

(2) For more information about this AD, contact Dan Rodina, Aerospace Engineer, International Section, Transport Standards Branch, FAA, 2200 South 216th St., Des Moines, WA 98198; telephone and fax 206-231-3225.

(3) For service information identified in this AD, contact Airbus SAS, Airworthiness Office—EAW, Rond-Point Emile Dewoitine No: 2, 31700 Blagnac Cedex, France; telephone +33 5 61 93 36 96; fax +33 5 61 93 44 51; email account.airworth-eas@airbus.com; internet http://www.airbus.com. You may view this service information at the FAA, Transport Standards Branch, 2200 South 216th St., Des Moines, WA. For information on the availability of this material at the FAA, call 206-231-3195.

Issued in Des Moines, Washington, on April 25, 2019.
Michael Kaszycki,
Acting Director, System Oversight Division, Aircraft Certification Service.

[FR Doc. 2019-09264 Filed 5-6-19; 8:45 am]

BILLING CODE 4910-13-P